DEPARTMENT OF COMMERCE

Foreign-Trade Zones Board

[Docket 8-2005]

Foreign-Trade Zone 61—San Juan, PR, Application for Manufacturing Authority—Subzone 61I, Shell Chemicals Yabucoa, Inc., Yabucoa, PR

An application has been submitted to the Foreign-Trade Zones Board (the Board) by the Puerto Rico Trade and Exports Company, grantee of FTZ 61, requesting manufacturing authority on behalf of Shell Chemicals Yabucoa, Inc. (Shell) within Subzone 61I at the Shell petrochemical complex in Yabucoa, Puerto Rico. The application was submitted pursuant to the provisions of the Foreign-Trade Zones Act, as amended (19 U.S.C. 81a-81u), and the regulations of the Board (15 CFR part 400). It was formally filed on February 11, 2005.

Subzone 61I (76,000 BPD capacity 190 employees) was approved by the Board in 1997 for the manufacture of fuel products and certain petrochemical feedstocks and refinery by-products (Board Order 893, 62 FR 32290, 6/13/97). Board Order 893 included a time limit on the authority to admit non-privileged foreign status crude into the refinery. This authority expired on September 30, 2000, and the applicant is now seeking to have the authority reinstated.

The subzone is located on a 241-acre site at Route 901, Km. 2.7 and Yabucoa Harbor, Yabucoa, Puerto Rico, some 45 miles southeast of San Juan. The refinery is used to produce fuels and petrochemical products. All of the crude oil (80 percent of inputs) is sourced from abroad. Shell has also submitted an application for temporary/interim manufacturing authority at the subzone (Docket T-1-2005).

Zone procedures would exempt the refinery from customs duty payments on the foreign products used in its exports (37 percent of production). On domestic sales, the company would be able to choose the customs duty rates that apply to certain petrochemical feedstocks and refinery by-products (duty-free) by admitting incoming foreign crude in non-privileged foreign status. The duty rates on inputs range from 5.25 cents/barrel to 10.5 cents/barrel. The application indicates that the savings from zone procedures would help improve the refinery's international competitiveness.

In accordance with the Board's regulations, a member of the FTZ staff has been appointed examiner to investigate the application and report to the Board.

Public comment is invited from interested parties. Submissions (original and 3 copies) shall be addressed to the Board's Executive Secretary at one of the following addresses:

1. Submissions via Express/Package Delivery Services: Foreign-Trade-Zones Board, U.S. Department of Commerce, Franklin Court Building—Suite 4100W, 1099 14th Street, NW., Washington, DC 20005; or

2. Submissions via the U.S. Postal Service: Foreign-Trade-Zones Board, U.S. Department of Commerce, FCB—Suite 4100W, 1401 Constitution Avenue, NW., Washington, DC 20230.

The closing period for their receipt is April 29, 2005. Rebuttal comments in response to material submitted during the foregoing period may be submitted during the subsequent 15-day period (to May 16, 2005).

A copy of the application and accompanying exhibits will be available for public inspection at the Office of the Foreign-Trade Zones Board's Executive Secretary at the first address listed above, and at the U.S. Export Assistance Center, Midtown Building, 10th floor, 420 Ponce de Leon Ave., San Juan, Puerto Rico 00918.

Dated: February 11, 2005.
Dennis Puccinelli,
Executive Secretary.

[FR Doc. 05-3804 Filed 2-25-05; 8:45 am]

BILLING CODE 3510-DS-P